DEPARTMENT OF ENERGY

Federal Energy Regulatory Commission

Combined Notice of Filings #2

Take notice that the Commission received the following electric corporate filings:

Docket Numbers: EC13-127-000.

Applicants: Astoria Energy II LLC.

Description: Application under FPA Section 203 of Astoria Energy II LLC.

Filed Date: 7/11/13.

Accession Number: 20130711-5154.

Comments Due: 5 p.m. ET 8/1/13.

Take notice that the Commission received the following electric rate filings:

Docket Numbers: ER13-1274-001.

Applicants: California Independent System Operator Corporation.

Description: 2013-07-11_Bucket Compliance to be effective 4/15/2013.

Filed Date: 7/11/13.

Accession Number: 20130711-5142.

Comments Due: 5 p.m. ET 8/1/13.

Docket Numbers: ER13-1958-000.

Applicants: FirstEnergy Service Company.

Description: Petition of FirstEnergy Service Company for Limited Waiver of the PJM Interconnection, L.L.C. Open Access Transmission Tariff and Request for Action by August 23, 2013.

Filed Date: 7/11/13.

Accession Number: 20130711-5124.

Comments Due: 5 p.m. ET 8/1/13.

Docket Numbers: ER13-1959-000.

Applicants: Niagara Mohawk Power Corporation.

Description: Notice of Cancellation of Rate Schedule No. 180 Transportation Services Agreement with the New York Power Authority of Niagara Mohawk Power Corporation.

Filed Date: 7/11/13.

Accession Number: 20130711-5127.

Comments Due: 5 p.m. ET 8/1/13.

Docket Numbers: ER13-1961-000.

Applicants: Northern States Power Company, a Minnesota corporation.

Description: 2013-7-11_NSP_UND_R&R Trans&TrsfmrAgrmt_440_0.0.0 to be effective 1/1/2013.

Filed Date: 7/11/13.

Accession Number: 20130711-5143.

Comments Due: 5 p.m. ET 8/1/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 11, 2013.
Nathaniel J. Davis, Sr.,
Deputy Secretary.

[FR Doc. 2013-17335 Filed 7-18-13; 8:45 am]

BILLING CODE 6717-01-P